ENVIRONMENTAL PROTECTION AGENCY

[FRL-9937-20-ORD]

Office of Research and Development; Ambient Air Monitoring Reference and Equivalent Methods: Designation of One New Reference Method and One New Equivalent Method

AGENCY: Environmental Protection Agency (EPA).

ACTION: Notice of the designation of one new reference method and one new equivalent method for monitoring ambient air quality.

SUMMARY: Notice is hereby given that the Environmental Protection Agency (EPA) has designated, in accordance with 40 CFR part 53, one new reference method for measuring concentrations of carbon monoxide (CO) and one new equivalent method for measuring concentrations of ozone (O3) in the ambient air.

FOR FURTHER INFORMATION CONTACT: Robert Vanderpool, Human Exposure and Atmospheric Sciences Division (MD-D205-03), National Exposure Research Laboratory, U.S. EPA, Research Triangle Park, North Carolina 27711. Email: Vanderpool.Robert@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference or equivalent methods (as applicable), thereby permitting their use under 40 CFR part 58 by States and other agencies for determining compliance with the NAAQSs. A list of all reference or equivalent methods that have been previously designated by EPA may be found at http://www.epa.gov/ttn/amtic/criteria.html.

The EPA hereby announces the designation of one new reference method for measuring concentrations of carbon monoxide (CO) in the ambient air and one new equivalent method for measuring concentrations of ozone (O3) in the ambient air. These designations are made under the provisions of 40 CFR part 53, as amended on August 31, 2011(76 FR 54326-54341).

The new reference method for CO is an automated method (analyzer) utilizing a measurement principle based on infrared absorption spectroscopy and is identified as follows:

RFCA-0915-228, “Environnement S.A. Model CO12e Carbon Monoxide Analyzer”, an infrared absorption spectroscopy technique operated on a full scale range of 0-50 ppm, at any temperature in the range of 10 °C to 35 °C, with a teflon sample particulate filter with the following software settings: Automatic response time ON; Automatic “ZERO-REF” cycle either ON or OFF and with or without the following options: ESTEL Analog Input/Output Board, LCD color touch screen and Carbon Dioxide CO2 sensor.

This application for a reference method determination for this CO method was received by the Office of Research and Development on July 20, 2015. This analyzer is commercially available from the applicant, Environnement S.A., 111, Boulevard Robespierre, 78300 Poissy France.

The new equivalent method for O3 is an automated method that utilizes a measurement principle based on non-dispersive ultraviolet absorption photometry. The newly designated equivalent method for O3 is identified as follows:

EQOA-1015-229, “Teledyne Advanced Pollution Instrumentation, Model 430 Ozone Analyzer”, operated with a full scale range between 0-500 ppb, at any operating temperature from 5 °C to 40 °C, with a sample particulate filter, with a 100-240V AC to DC power adapter or a 12V DC source capable of providing 9 watts of power, in accordance with the associated instrument manual, and with or without any of the following options: Internal long-life pump, external long-life pump, external portable battery pack, external communication and data monitoring interfaces.

The application for an equivalent method determination for this candidate method was received by the Office of Research and Development on August 27, 2015. The analyzer is commercially available from the applicant, Teledyne Advanced Pollution Instrumentation, Inc., 9480 Carroll Park Drive, San Diego, CA 92121-2251.

Representative test analyzers have been tested in accordance with the applicable test procedures specified in 40 CFR part 53, as amended on August 31, 2011. After reviewing the results of those tests and other information submitted by the applicant, EPA has determined, in accordance with part 53, that these methods should be designated as a reference or equivalent method.

As a designated reference or equivalent method, these methods are acceptable for use by states and other air monitoring agencies under the requirements of 40 CFR part 58, Ambient Air Quality Surveillance. For such purposes, each method must be used in strict accordance with the operation or instruction manual associated with the method and subject to any specifications and limitations (e.g., configuration or operational settings) specified in the designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at http://www.epa.gov/ttn/amtic/qalist.html). Provisions concerning modification of such methods by users are specified under Section 2.8 (Modifications of Methods by Users) of Appendix C to 40 CFR part 58.

Consistent or repeated noncompliance with any of these conditions should be reported to: Director, Human Exposure and Atmospheric Sciences Division (MD-E205-01), National Exposure Research Laboratory, U.S. Environmental Protection Agency, Research Triangle Park, North Carolina 27711.

Designation of these reference and equivalent methods is intended to assist the States in establishing and operating their air quality surveillance systems under 40 CFR part 58. Questions concerning the commercial availability or technical aspects of the method should be directed to the applicant.

Dated: November 6, 2015.
Jennifer Orme-Zavaleta,
Director, National Exposure Research Laboratory.

[FR Doc. 2015-29492 Filed 11-18-15; 8:45 am]

BILLING CODE 6560-50-P